POSTAL SERVICE BOARD OF GOVERNORS

Sunshine Act Meeting

TIMES AND DATES: 1:00 p.m., Monday, May 1, 2000; 8:30 a.m., Tuesday, May 2, 2000.

PLACE: Washington, D.C., at U.S. Postal Service Headquarters, 475 L'Enfant Plaza, S.W., in the Benjamin Franklin Room.

STATUS: May 1 (Closed); May 2 (Open).

MATTERS TO BE CONSIDERED:

Monday, May 1—1:00 p.m. (Closed)

1. Strategic Planning.

2. Adjustments to International Mail Rates.

3. Financial Performance.

4. Office of Inspector General Midyear Budget and Performance Results.

5. Compensation Issues.

6. Personnel Matters.

Tuesday, May 2—8:30 a.m. (Open)

1. Minutes of the Previous Meeting, April 3-4, 2000.

2. Remarks of the Postmaster General/Chief Executive Officer.

3. Briefing on the Census Mailing.

4. Preview of National Postal Customer Council Day.

5. Update on Delivery Confirmation.

6. Tentative Agenda for the June 5-6, 2000, meeting in Philadelphia, Pennsylvania.

CONTACT PERSON FOR MORE INFORMATION: Thomas J. Koerber, Secretary of the Board, U.S. Postal Service, 475 L'Enfant Plaza, SW., Washington, DC 20260-1000. Telephone (202) 268-4800.

Thomas J. Koerber,
Secretaruy.

[FR Doc. 00-10274 Filed 4-20-00; 2:09 pm]

BILLING CODE 7710-12-M